DEPARTMENT OF VETERANS AFFAIRS

38 CFR Part 4

RIN 2900-AP27

Schedule for Rating Disabilities: Skin; Correction

AGENCY: Department of Veterans Affairs.

ACTION: Final rule; correction.

SUMMARY: The Department of Veterans Affairs (VA) published a final rule amending its Schedule for Rating Disabilities regulations pertaining to the skin body system in the Federal Register on Friday, July 13, 2018. VA has since determined that certain language added to the final rule was unintended and could be construed to prevent appropriate disability compensation ratings from being assigned to veterans. Therefore, VA is issuing this technical correction to ensure that skin disabilities are rated correctly.

DATES: This correction is effective August 13, 2018.

FOR FURTHER INFORMATION CONTACT: Stephanie Li, Chief, Regulations Staff (211D), Compensation Service, Department of Veterans Affairs, 810 Vermont Avenue NW, Washington, DC 20420, (202) 461-9700. (This is not a toll-free telephone number.)

SUPPLEMENTARY INFORMATION: On Friday, July 13, 2018, VA published in the Federal Register (83 FR 32592) a final rule amending its Schedule for Rating Disabilities regulations pertaining to the skin body system.

In § 4.118, under the General Rating Formula for the Skin for DCs 7806, 7809, 7813-7816, 7820-7822, AND 7824, the 30 percent criteria published in the final rule, contains a phrase “Characteristic lesions involving more than” without a corresponding explanation for the additional phrase “more than.”

VA notes that the inclusion of the phrase “more than” in the final rule was clearly a technical error. This document corrects this technical error by removing the phrase “more than” from the 30 percent rating criteria under the General Rating Formula for the Skin. This error does not affect any benefits which were previously paid as the final rule for skin will not become effective until August 13, 2018.

In FR Doc. 18-14957, appearing on page 32598 in the Federal Register of July 13, 2018, correct the following:

§ 4.118 [Corrected]

1. On page 32598, in the table, under the heading General Rating Formula For The Skin for DCs 7806, 7809, 7813-7816, 7820-7822, AND 7824, revise the 30 percent disability rating criteria to read as follows:

* * * * * * *
At least one of the following | 30
Characteristic lesions involving 20 to 40 percent of the entire body or 20 to 40 percent of exposed areas affected; or Systemic therapy including, but not limited to, corticosteroids, phototherapy, retinoids, biologics, photochemotherapy, PUVA, or other immunosuppressive drugs required for a total duration of 6 weeks or more, but not constantly, over the past 12-month period
* * * * * * *

Approved: August 2, 2018.
Jeffrey M. Martin,
Impact Analyst, Office of Regulation Policy & Management, Office of the Secretary, Department of Veterans Affairs.

[FR Doc. 2018-16859 Filed 8-6-18; 8:45 am]

BILLING CODE 8320-01-P